DEPARTMENT OF HEALTH AND HUMAN SERVICES

Re-charter of the Natonal Vaccine Advisory Committee

AGENCY: Department of Health and Human Services, Office of the Secretary, Office of the Assistant Secretary for Health, National Vaccine Program Office.

ACTION: Notice.

SUMMARY: The Department of Health and Human Services is hereby giving notice that the National Vaccine Advisory Committee (NVAC) has been rechartered.

FOR FURTHER INFORMATION CONTACT: LCDR Guillermo Aviles-Mendoza, Public Health Advisor, National Vaccine Program Office, Department of Health and Human Services, Room 739G.4 Hubert H. Humphrey Building, 200 Independence Avenue, SW., Washington, DC 20201. Phone: (202) 205-2982; Fax: (202) 690-4631; e-mail: nvpo@hhs.gov.

SUPPLEMENTARY INFORMATION: NVAC is a non-discretionary Federal advisory committee. The establishment of NVAC was mandated under Section 2105 (42 U.S.C. Section 300aa-5) of the Public Health Service (PHS) Act, as amended. NVAC advises and makes recommendations to the Director, National Vaccine Program (NVP), on matters related to the Program's responsibilities. The Assistant Secretary for Health is appointed to serve as the Director, NVP.

To carry out its mission, NVAC (1) studies and recommends ways to encourage the availability of an adequate supply of safe and effective vaccination products in the United States; (2) recommends research priorities and other measures the Director of the NVP should take to enhance the safety and efficacy of vaccines; (3) advises the Director of the NVP in the implementation of Sections 2102 and 2103 of the PHS Act; and (4) identifies annually for the Director of the NVP the most important areas of governmental and non-governmental cooperation that should be considered in implementing Sections 2101 and 2103 of the PHS Act.

NVAC was established on July 30, 1987. As a Federal advisory committee, NVAC is governed by the provisions of the Federal Advisory Committee Act, Public Law 92-463, as amended (5 U.S.C. App.) To comply with the guidelines under FACA, NVAC has been re-chartered at the appropriate intervals since it was established. On July 27, 2011, the Assistant Secretary for Health approved for NVAC to be rechartered. The new charter was effected and filed with the appropriate Congressional offices and Library of Congress on July 30, 2011. The rechartering of NVAC gives authorization for the Committee to continue to operate until July 30, 2013.

A copy of the NVAC charter is available on the website for the National Vaccine Program Office at http://www.hhs.gov/nvpo/nvac. A copy of the charter also can be obtained by accessing the FACA database that is maintained by the Committee Management Secretariat under the General Services Administration. The website address for the FACA database is http://fido.gov/facadatabase.

Bruce Gellin,
Deputy Assistant Secretary for Health (Vaccines and Immunization), Director, National Vaccine Program Office.

[FR Doc. 2011-20197 Filed 8-8-11; 8:45 am]

BILLING CODE 4150-44-P